DEPARTMENT OF HOMELAND SECURITY

[USCG-2004-19621]

RIN 1625-AA89

Dry Cargo Residue Discharges in the Great Lakes

AGENCY: Coast Guard, DHS.

ACTION: Notice of public meeting; request for comments.

SUMMARY: The Coast Guard announces a public scoping meeting in support of the National Environmental Policy Act (NEPA) analysis for this rulemaking, which concerns the regulation of dry cargo residues or sweepings in the Great Lakes. We also announce the availability of a sampling plan proposal that the Coast Guard may implement, in part or in whole, as part of this NEPA analysis, and we request public comments on that proposal.

DATES: The public scoping meeting will be held on July 6, 2006, from 1 p.m. to 5 p.m. Comments and related material must reach the Docket Management Facility on or before July 31, 2006.

ADDRESSES: The public scoping meeting will be held at the Anthony J. Celebreeze Federal Building, 31st floor auditorium, 1240 E 9th Street, Cleveland, OH 44199, telephone (216) 902-6020; photo identification required for entrance.

In addition to submitting written statements or making verbal comments at the public scoping meeting, you may submit comments identified by Coast Guard docket number USCG-2004-19621 to the Docket Management Facility at the U.S. Department of Transportation. To avoid duplication, please use only one of the following methods:

(1) Web Site: http://dms.dot.gov.

(2) Mail: Docket Management Facility, U.S. Department of Transportation, 400 Seventh Street, SW., Washington, DC 20590-0001.

(3) Fax: 202-493-2251.

(4) Delivery: Room PL-401 on the Plaza level of the Nassif Building, 400 Seventh Street, SW., Washington, DC, between 9 a.m. and 5 p.m., Monday through Friday, except Federal holidays. The telephone number is 202-366-9329.

FOR FURTHER INFORMATION CONTACT: For further information about this rulemaking, contact Lieutenant Commander Mary Sohlberg, U.S. Coast Guard, Environmental Standards Division, telephone: 202-372-1429, e-mail: msohlberg@comdt.uscg.mil. Information about the public scoping meeting will be available at http://www.uscg.mil/hq/g-m/mso/dry cargo.htm. If you need special arrangements to attend the public scoping meeting, contact LTJG Regan Blomshield, U.S. Coast Guard District Nine, telephone: 216-902-6050, e-mail: rblomshield@d9.uscg.mil. If you have questions on viewing or submitting material to the docket, call Renee V. Wright, Program Manager, Docket Operations, telephone 202-493-0402.

SUPPLEMENTARY INFORMATION:

Public Scoping Meeting

The public scoping meeting will be held in a handicapped accessible facility. Please note that you will be required to provide photo identification to enter the facility. If you need special arrangements, please use the contact information in FOR FURTHER INFORMATION CONTACT. The meeting will start with an overview presentation, followed by a formal public comment period. Following the formal public comment period, we will hold an informal open house. At the open house, Coast Guard personnel will be available to provide more information about the NEPA and rulemaking processes, dry cargo residue discharges, and the Coast Guard's proposed regulatory action, which we described in an earlier notice (71 FR 12210, March 9, 2006). A court reporter will be present during both the formal public comment period and the informal open house, to record verbal comments from the public. The public will also be able to submit written comments at any time during the meeting. Verbal comments to the court reporter will be transcribed, and the transcription will be placed in the public docket along with any written statements that may be submitted during the meeting. These comments and statements will be addressed by the Coast Guard as part of the Environmental Impact Statement.

Request for Comments

We published a notice on March 9, 2006 (71 FR 12210), requesting public comments on any significant environmental issues related to the Coast Guard's proposed regulatory action. The public comment period for that notice remains open until July 31, 2006. In addition, we request public comments on, or information relevant to, the proposed sampling plan discussed below. All comments received will be posted, without change, to http://dms.dot.gov and will include any personal information you have provided. We have an agreement with the Department of Transportation (DOT) to use the Docket Management Facility. Please see DOT's “Privacy Act” paragraph below.

Submitting comments: If you submit a comment, please include your name and address, identify the docket number for this notice (USCG-2004-19621) and give the reason for each comment. You may submit your comments by electronic means, mail, fax, or delivery to the Docket Management Facility at the address under ADDRESSES; but please submit your comments by only one means. If you submit them by mail or delivery, submit them in an unbound format, no larger than 8½ by 11 inches, suitable for copying and electronic filing. If you submit them by mail and would like to know that they reached the Facility, please enclose a stamped, self-addressed postcard or envelope. We will consider all comments received during the comment period.

Viewing comments and documents: To view comments and documents, go to http://dms.dot.gov at any time, click on “Simple Search,” enter the last five digits of the docket number for this rulemaking, and click on “Search.” You may also visit the Docket Management Facility in room PL-401 on the Plaza level of the Nassif Building, 400 Seventh Street, SW., Washington, DC, between 9 a.m. and 5 p.m., Monday through Friday, except Federal holidays.

Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Background and Purpose

On March 9, 2006, the Coast Guard published a notice of intent, notice of availability, and request for comments (71 FR 12210), announcing the start of the public scoping process that determines the scope of issues to be addressed in the EIS and for identifying the significant issues related to the proposed action. As promised in that notice, today we are announcing where and when the public scoping meeting will be held. We are also announcing the availability of a sampling plan that environmental experts retained by the Coast Guard have proposed. We are considering adopting this sampling plan in order to analyze the impact of dry cargo residue discharges in the Great Lakes. The proposed sampling plan is available for public review either electronically or at the Docket Management Facility (see ADDRESSES and Request for Comments).

Dated: June 2, 2006.
Howard L. Hime,
Acting Director of Standards, Assistant Commandant for Prevention.

[FR Doc. E6-8882 Filed 6-7-06; 8:45 am]

BILLING CODE 4910-15-P